DEPARTMENT OF ENERGY

Federal Energy Regulatory Commission

[Docket Nos. CP03-75-003, CP03-75-004, CP05-361-001, and CP05-361-002]

Freeport LNG Development, LP; Notice of Availability of the Environmental Assessment for the Proposed Freeport LNG Export Project and Bog/Truck Project

March 13, 2009.

The staff of the Federal Energy Regulatory Commission (FERC or Commission) and the Department of Energy (DOE), Office of Fossil Fuels, have prepared an environmental assessment (EA) on the liquefied natural gas (LNG) facilities proposed by Freeport LNG Development, LP (Freeport LNG) in the above-referenced docket.

The EA was prepared to satisfy the requirements of the National Environmental Policy Act (NEPA). The DOE is a cooperating agency for the development of the EA. A cooperating agency has jurisdiction by law or special expertise with respect to potential environmental impacts associated with the proposal and is involved in the NEPA analysis. The FERC staff concludes that approval of the proposed projects, with appropriate mitigating measures, would not constitute a major Federal action significantly affecting the quality of the human environment.

In order to operate its facility for the LNG Export Project, Freeport LNG proposes equipment modification at the Phase I unloading dock to allow shore to ship LNG transfer. This would include converting one ¹ of the four existing unloading arms on the Phase I unloading dock to a loading line to transfer export-bound LNG from the terminal's storage tanks to awaiting ships. The conversion would involve minor changes involving a check valve and a control valve. The check valve would be replaced with a short spool. At any given time, the terminal would operate either in the export mode or the currently authorized import mode, but not in both modes simultaneously, such that ships visiting the terminal to load LNG for export would operate instead of, not in addition to, ships delivering LNG for domestic use only.

¹ Freeport LNG's LNG Transfer System Startup/Operation Procedure (Document No. FLNG-REC-101XXX [Revision 1-09-04-08]) identifies the arm as LA-1A.

Freeport LNG also applied to DOE on August 1, 2008 in Docket No. FE-08-70-LNG to export on a short-term or spot market basis up to 24 Bcf of previously imported LNG cumulatively over a two-year period from the United States (U.S.) to the United Kingdom, Belgium, Spain, France, Italy, Japan, South Korea, India, China, and/or Taiwan.

Freeport LNG also proposes to construct and operate a boil-off gas (BOG) liquefaction system and a LNG truck delivery system at the company's existing import terminal.² These facilities would allow Freeport LNG to (1) liquefy about 5 million cubic feet per day of BOG and return it to the LNG storage tanks and (2) receive the delivery of LNG by truck in order to keep the tanks in the necessary cryogenic state. The BOG liquefaction plant would also act as a back-up to the existing BOG takeaway pipeline compression. The location of BOG liquefaction facilities would consist of:

² During routine terminal operations, ambient heat in the LNG storage tanks and piping causes small amount of LNG to evaporate. The vaporizing LNG is referred to as BOG or boil-off gas. The BOG increases the storage tank pressure until a point where it must be transferred, flared, or re-liquefied.

• One BOG liquefaction heat exchanger;

• One BOG liquefaction expander-compressor;

• Two BOG liquefaction compression lube oil filters;

• Three BOG refrigeration compressor units (approximately 1,380 horsepower (hp) each);

• Natural gas piping, 4, 6, 8, and 12-inch-diameter aboveground piping; and

• LNG piping, 4-inch-diameter aboveground piping.

Freeport LNG is proposing certain facility modifications to enable it to undertake LNG truck unloading activities in the event that the BOG liquefaction facilities are not available. The truck unloading facilities would require the installation of a single 4-inch-diameter inlet connection and valves on one of the existing LNG transfer lines and a 25 hp portable electric pump, if needed. The LNG truck would be connected to the valve via a 3-inch-diameter hose during unloading of the LNG. Freeport LNG would use these facilities to transfer the LNG from the trucks to the existing tanks. Freeport LNG anticipates that it would receive 5 to 6 truck deliveries per day, totaling 66,000 gallons or 4.96 million standard cubic feet (MMscf) of LNG during the periods when delivery by truck would be required. The proposed LNG truck delivery system is expected to operate for about 60-90 days, generating traffic of about 540 trucks annually.

The EA has been placed in the public files of the FERC. A limited number of copies of the EA are available for distribution and public inspection at: Federal Energy Regulatory Commission, Public Reference Room, 888 First Street, NE., Room 2A, Washington, DC 20426. (202) 502-8371.

Copies of the EA have been mailed to Federal, State, and local agencies; public interest groups; interested individuals and affected landowners; Native American Tribes; newspapers and libraries; and parties to this proceeding.

Any person wishing to comment on the EA may do so. To ensure consideration prior to a Commission decision on the proposal, it is important that we receive your comments before the date specified below.

You can make a difference by providing us with your specific comments or concerns about the Sabine Export Project. Your comments should focus on the potential environmental effects, reasonable alternatives, and measures to avoid or lessen environmental impacts. The more specific your comments, the more useful they will be. To ensure that your comments are timely and properly recorded, please send in your comments so that they will be received in Washington, DC on or before April 13, 2009.

For your convenience, there are three methods in which you can use to submit your comments to the Commission. In all instances please reference the project docket numbers CP03-75-003, CP03-75-004, CP05-361-001, and CP05-361-002 with your submission. The docket number can be found on the front of this notice. The Commission encourages electronic filing of comments and has dedicated eFiling expert staff available to assist you at 202-502-8258 or efiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 2, PJ11.2.

Comments will be considered by the Commission but will not serve to make the commentor a party to the proceeding. Any person seeking to become a party to the proceeding must file a motion to intervene pursuant to Rule 214 of the Commission's Rules of Practice and Procedures (18 CFR 385.214).³ Only intervenors have the right to seek rehearing of the Commission's decision.

³ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Kimberly D. Bose,
Secretary.

[FR Doc. E9-6075 Filed 3-19-09; 8:45 am]

BILLING CODE